DEPARTMENT OF COMMERCE

International Trade Administration

[A-552-834]

Paper File Folders From the Socialist Republic of Vietnam: Amended Preliminary Determination of Less-Than-Fair-Value Investigation

AGENCY: Enforcement and Compliance, International Trade Administration, Department of Commerce.

SUMMARY: The U.S. Department of Commerce (Commerce) is amending the preliminary affirmative antidumping duty determination on paper file folders from the Socialist Republic of Vietnam (Vietnam) to correct a significant ministerial error.

DATES: Applicable June 20, 2023.

FOR FURTHER INFORMATION CONTACT: Janaé Martin or William Horn, AD/CVD Operations, Office VIII, Enforcement and Compliance, International Trade Administration, U.S. Department of Commerce, 1401 Constitution Avenue NW, Washington, DC 20230; telephone: (202) 482-0238 or (202) 482-4868, respectively.

SUPPLEMENTARY INFORMATION:

Background

On May 17, 2023, Commerce published its preliminary affirmative determination in the less-than-fair-value investigation of paper file folders from Vietnam.¹ On May 16, 2023, we received a timely ministerial error allegation from Three-Color Stone Stationary (Viet Nam) Company Limited (TCS) that Commerce made significant ministerial errors in the Preliminary Determination with respect to TCS's weighted-average dumping margin.² On May 18, 2023, the petitioner ³ submitted timely rebuttal comments to TCS's ministerial error allegation.⁴

¹ See Paper File Folders from the Socialist Republic of Vietnam: Preliminary Affirmative Determination of Sales at Less Than Fair Value, Postponement of Final Determination, and Extension of Provisional Measures, 88 FR 31488 (May 17, 2023) (Preliminary Determination) and accompanying Preliminary Decision Memorandum.

² See TCS's Letter, “Three-Color Stone Stationery (Viet Nam) Company Limited: Request for Correction of Ministerial Error in the Preliminary Results, including Customs Instructions,” dated May 16, 2023 (TCS Ministerial Error Comments).

³ The petitioner in this investigation is the Coalition of Domestic File Folders Manufacturers.

⁴ See Petitioner's Letter, “Petitioner's Rebuttal to Ministerial Error Comments,” dated May 18, 2023 (Petitioner Ministerial Error Rebuttal Comments).

Period of Investigation

The period of investigation (POI) is April 1, 2022, through September 30, 2022.

Scope of the Investigation

The products covered by this investigation are paper file folders from Vietnam. For a complete description of the scope of this investigation, see Appendix.

Analysis of Significant Ministerial Error Allegation

Commerce will analyze any comments received and, if appropriate, correct any significant ministerial error by amending the preliminary determination according to 19 CFR 351.224(e). A ministerial error is defined in 19 CFR 351.224(f) as “an error in addition, subtraction, or other arithmetic function, clerical error resulting from inaccurate copying, duplication, or the like, and any other similar type of unintentional error which the Secretary considers ministerial.” ⁵ A significant ministerial error is defined as a ministerial error, the correction of which, singly or in combination with other errors, would result in: (1) a change of at least five absolute percentage points in, but not less than 25 percent of, the weighted-average dumping margin calculated in the original (erroneous) preliminary determination; or (2) a difference between a weighted-average dumping margin of zero (or de minimis) and a weighted-average dumping margin greater than de minimis, or vice versa.⁶

⁵ See section 735(e) of the Tariff Act of 1930, as amended (the Act).

⁶ See 19 CFR 351.224(g).

Amended Preliminary Determination

Pursuant to 19 CFR 351.224(e) and (g)(1), Commerce is amending the Preliminary Determination to reflect the correction of a ministerial error made in the calculation of the weighted-average dumping margin for TCS.⁷ Specifically, when calculating surrogate value expenses for TCS, we inadvertently failed to convert the unit of measure for movement expenses. Commerce finds that this ministerial error is a significant ministerial error within the meaning of 19 CFR 351.224(g), because correction of this error decreases TCS's weighted-average dumping margin of 324.70 to 93.64 percent, which is a change that is at least five absolute percentage points in, but not less than 25 percent of, the weighted-average dumping margin calculated for TCS in the original Preliminary Determination. Furthermore, as TCS's amended preliminary weighted-average dumping margin is now below the highest petition margin of 233.93 percent,⁸ we compared this petition rate to TCS's highest individual dumping margins and found the petition rate to be within the range of the highest calculated individual dumping margins. Accordingly, we assigned to the Vietnam-wide entity a dumping margin of 233.93 percent. For a complete discussion of the alleged ministerial errors, see the Preliminary Ministerial Error Memo.

⁷ See Memorandum, “Less Than Fair Value Investigation of Paper File Folders from the Socialist Republic of Vietnam: Allegation of Significant Ministerial Errors in the Preliminary Determination,” dated concurrently with this notice (Preliminary Ministerial Error Memo).

⁸ See Paper File Folders from the People's Republic of China, India, and the Socialist Republic of Vietnam: Initiation of Less-Than-Fair-Value Investigations, 87 FR 67441, 67445 (November 8, 2022) (Initiation Notice).

Amended Preliminary Determination

As a result of correcting this ministerial error, Commerce determines the following weighted-average dumping margins exist:

Exporter | Producer | Estimated weighted-average dumping margin (percent)
Three-Color Stone Stationary (Viet Nam) Company Limited | Three-Color Stone Stationary (Viet Nam) Company Limited | 93.64
Vietnam-Wide Entity | 233.93

Amended Cash Deposits and Suspension of Liquidation

The collection of cash deposits and suspension of liquidation will be revised according to the rates calculated in this amended preliminary determination, in accordance with section 733(d) of the Act. Because the amended rates for TCS and the Vietnam-wide entity result in decreased cash deposits, they will be effective retroactively to May 17, 2023, the date of publication of the Preliminary Determination. We will also instruct U.S. Customs and Border Protection (CBP) to issue instructions for requesting a refund of the difference between the amount of cash deposits paid as a result of the application of the original preliminary determination rates and the amount due as a result of the amended preliminary determination rates.

Disclosure

We intend to disclose the calculations performed to parties in this proceeding within five days after public announcement of the amended preliminary determination, in accordance with 19 CFR 351.224(b).

International Trade Commission Notification

In accordance with section 733(f) of the Act, we will notify the International Trade Commission of our amended preliminary determination.

Notification to Interested Parties

This amended preliminary determination is issued and published pursuant to sections 733(d) and 777(i) of the Act and 19 CFR 351.224(e).

Dated: June 12, 2023.
Lisa W. Wang,
Assistant Secretary for Enforcement and Compliance.

Appendix—Scope of the Investigation

The products within the scope of the investigation are file folders consisting primarily of paper, paperboard, pressboard, or other cellulose material, whether coated or uncoated, that has been folded (or creased in preparation to be folded), glued, taped, bound, or otherwise assembled to be suitable for holding documents. The scope includes all such folders, regardless of color, whether or not expanding, whether or not laminated, and with or without tabs, fasteners, closures, hooks, rods, hangers, pockets, gussets, or internal dividers. The term “primarily” as used in the first sentence of this scope means 50 percent or more of the total product weight, exclusive of the weight of fasteners, closures, hooks, rods, hangers, removable tabs, and similar accessories, and exclusive of the weight of packaging.

Subject folders have the following dimensions in their folded and closed position: lengths and widths of at least 8 inches and no greater than 17 inches, regardless of depth.

The scope covers all varieties of folders, including but not limited to manila folders, hanging folders, fastener folders, classification folders, expanding folders, pockets, jackets, and wallets.

Excluded from the scope are:

• mailing envelopes with a flap bearing one or more adhesive strips that can be used permanently to seal the entire length of a side such that, when sealed, the folder is closed on all four sides;

• binders, with two or more rings to hold documents in place, made from paperboard or pressboard encased entirely in plastic;

• binders consisting of a front cover, back cover, and spine, with or without a flap; to be excluded, a mechanism with two or more metal rings must be included on or adjacent to the interior spine;

• non-expanding folders with a depth exceeding 2.5 inches and that are closed or closeable on the top, bottom, and all four sides (e.g., boxes or cartons);

• expanding folders that have (1) 13 or more pockets, (2) a flap covering the top, (3) a latching mechanism made of plastic and/or metal to close the flap, and (4) an affixed plastic or metal carry handle;

• folders that have an outer surface (other than the gusset, handles, and/or closing mechanisms, if any) that is covered entirely with fabric, leather, and/or faux leather;

• fashion folders, which are defined as folders with all of the following characteristics: (1) plastic lamination covering the entire exterior of the folder, (2) printing, foil stamping, embossing (i.e., raised relief patterns that are recessed on the opposite side), and/or debossing (i.e., recessed relief patterns that are raised on the opposite side), covering the entire exterior surface area of the folder, (3) at least two visible and printed or foil stamped colors (other than the color of the base paper), each of which separately covers no less than 10 percent of the entire exterior surface area, and (4) patterns, pictures, designs, or artwork covering no less than thirty percent of the exterior surface area of the folder;

• portfolios, which are folders having (1) a width of at least 16 inches when open flat, (2) no tabs or dividers, and (3) one or more pockets that are suitable for holding letter size documents and that cover at least 15 percent of the surface area of the relevant interior side or sides; and

• report covers, which are folders having (1) no tabs, dividers, or pockets, and (2) one or more fasteners or clips, each of which is permanently affixed to the center fold, to hold papers securely in place.

Imports of the subject merchandise are provided for under Harmonized Tariff Schedule of the United States (HTSUS) category 4820.30.0040. Subject imports may also enter under other HTSUS classifications. While the HTSUS subheading is provided for convenience and customs purposes, the written description of the scope of the investigation is dispositive.

[FR Doc. 2023-13014 Filed 6-16-23; 8:45 am]

BILLING CODE 3510-DS-P